DEPARTMENT OF ENERGY

Federal Energy Regulatory Commission

Combined Notice of Filings #1

Take notice that the Commission received the following electric rate filings:

Docket Numbers: ER21-385-006.

Applicants: Upper Missouri G. & T. Electric Cooperative, Inc.

Description: Compliance filing: Amend Compliance Filing—Second Partial Settlement (ER21-385) to be effective 4/1/2023.

Filed Date: 9/6/23.

Accession Number: 20230906-5163.

Comment Date: 5 p.m. ET 9/27/23.

Docket Numbers: ER23-2509-001.

Applicants: Southwestern Public Service Company.

Description: Tariff Amendment: 2023-09-xx TxDOT Supplemental Filing—Amnd—729 to be effective 7/29/2023.

Filed Date: 9/6/23.

Accession Number: 20230906-5143.

Comment Date: 5 p.m. ET 9/27/23.

Docket Numbers: ER23-2584-001.

Applicants: Ameren Illinois Company.

Description: Tariff Amendment: Amendment to IMEA Reimb. Agrmt. Roodhouse to be effective 8/9/2023.

Filed Date: 9/7/23.

Accession Number: 20230907-5065.

Comment Date: 5 p.m. ET 9/28/23.

Docket Numbers: ER23-2768-000.

Applicants: Duane Arnold Solar, LLC.

Description: Request for Limited Waiver of Duane Arnold Solar, LLC.

Filed Date: 9/1/23.

Accession Number: 20230901-5227.

Comment Date: 5 p.m. ET 9/22/23.

Docket Numbers: ER23-2773-000.

Applicants: River Ferry Solar I LLC.

Description: Baseline eTariff Filing: Application for Market-Based Rate Authorization, Request for Related Waivers to be effective 11/6/2023.

Filed Date: 9/6/23.

Accession Number: 20230906-5140.

Comment Date: 5 p.m. ET 9/27/23.

Docket Numbers: ER23-2774-000.

Applicants: PJM Interconnection, L.L.C.

Description: § 205(d) Rate Filing: Original ISA, SA No. 7075; Queue No. AE2-194 to be effective 8/8/2023.

Filed Date: 9/7/23.

Accession Number: 20230907-5038.

Comment Date: 5 p.m. ET 9/28/23.

Docket Numbers: ER23-2775-000.

Applicants: PJM Interconnection, L.L.C.

Description: § 205(d) Rate Filing: Original ISA, Service Agreement No. 7067; Queue No. AF1-146/AF2-322 to be effective 8/8/2023.

Filed Date: 9/7/23.

Accession Number: 20230907-5048.

Comment Date: 5 p.m. ET 9/28/23.

Docket Numbers: ER23-2776-000.

Applicants: New York State Electric & Gas Corporation, New York Independent System Operator, Inc.

Description: § 205(d) Rate Filing: New York State Electric & Gas Corporation submits tariff filing per 35.13(a)(2)(iii: NYISO-NYSEG Joint 205: Amended LGIA Bluestone Wind Project SA2629 (CEII) to be effective 8/24/2023.

Filed Date: 9/7/23.

Accession Number: 20230907-5070.

Comment Date: 5 p.m. ET 9/28/23.

Docket Numbers: ER23-2777-000.

Applicants: New York State Electric & Gas Corporation, New York Independent System Operator, Inc.

Description: § 205(d) Rate Filing: New York State Electric & Gas Corporation submits tariff filing per 35.13(a)(2)(iii: NYISO-NYSEG Joint 205: LGIA Morris Ridge Solar Energy Center Prjct SA2790 (CEII) to be effective 8/24/2023.

Filed Date: 9/7/23.

Accession Number: 20230907-5072.

Comment Date: 5 p.m. ET 9/28/23.

Docket Numbers: ER23-2778-000.

Applicants: Southwest Power Pool, Inc.

Description: § 205(d) Rate Filing: 4132 Choctaw Fields Solar Project Surplus Interconnection GIA to be effective 11/6/2023.

Filed Date: 9/7/23.

Accession Number: 20230907-5077.

Comment Date: 5 p.m. ET 9/28/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For other information, call (866) 208-3676 (toll free). For TTY, call (202) 502-8659. The Commission's Office of Public Participation (OPP) supports meaningful public engagement and participation in Commission proceedings. OPP can help members of the public, including landowners, environmental justice communities, Tribal members and others, access publicly available information and navigate Commission processes.

For public inquiries and assistance with making filings such as interventions, comments, or requests for rehearing, the public is encouraged to contact OPP at (202) 502-6595 or OPP@ferc.gov.

Dated: September 7, 2023.
Debbie-Anne A. Reese,
Deputy Secretary.

[FR Doc. 2023-19767 Filed 9-12-23; 8:45 am]

BILLING CODE 6717-01-P